FEDERAL COMMUNICATIONS COMMISSION

47 CFR Part 73

[DA 01-336; MM Docket No. 01-36, RM-10047]

Radio Broadcasting Services; Jamestown, Alfred, Canaseraga, NY; and DuBois, PA

AGENCY: Federal Communications Commission.

ACTION: Proposed rule.

SUMMARY: The Commission requests comments on a petition filed by Vox Allegany, LLC, requesting the substitution of Channel 270B1 for Channel 270A at Jamestown, New York, and the modification of Station WHUG(FM)'s license accordingly. To accommodate the upgrade, petitioner also proposes the substitution of Channel 246A for Channel 270A at Alfred, New York, and the modification of Station WZKZ(FM)'s license accordingly; the substitution of Channel 270A for vacant Channel 246A at Canaseraga, New York; and the modification of the reference coordinates of Station WMOU-FM, Channel 271B, Du Bois, Pennsylvania. Channel 270B1 can be substituted at Jamestown in compliance with the Commission's minimum distance separation requirements with a site restriction of 7.9 kilometers (4.9 miles) south at petitioner's requested site. The coordinates for Channel 270B1 Jamestown are 42-12-40 North Latitude and 79-22-40 West Longitude. See Supplementary Information, supra.

DATES: Comments must be filed on or before April 2, 2001, reply comments on or before April 17, 2001.

ADDRESSES: Federal Communications Commission, Washington, DC 20554. In addition to filing comments with the FCC, interested parties should serve the petitioner, or its counsel or consultant, as follows: David G. O'Neil, Esq., 1350 Connecticut Ave., NW., Suite 900, Washington, DC 20036-1701 (Counsel for Petitioner).

FOR FURTHER INFORMATION CONTACT: Sharon P. McDonald, Mass Media Bureau, (202) 418-2180.

SUPPLEMENTARY INFORMATION: This is a synopsis of the Commission's Notice of Proposed Rule Making and Order to Show Cause, MM Docket No. 01-36, adopted January 31, 2001, and released February 9, 2001. The full text of this Commission decision is available for inspection and copying during normal business hours in the FCC Reference Information Center (Room CY-A257), 445 12th Street, SW., Washington, DC. The complete text of this decision may also be purchased from the Commission's copy contractor, International Transcription Service, Inc., (202) 857-3800, 1231 20th Street, NW., Washington, DC 20036.

Additionally, Channel 246A can be substituted at Alfred with a site restriction of 7.9 kilometers (4.9 miles) south at Station WZKZ(FM)'s presently authorized site; Channel 270A can be substituted at Canaseraga with a site restriction of 8.8 kilometers (5.5 miles) east at petitioner's requested site; and the reference coordinates for Channel 271B at Du Bois can be modified with a site restriction of 20.3 kilometers (12.6 miles) east at petitioner's requested site. The coordinates for Channel 246A at Alfred are 42-11-25 North Latitude and 77-49-17 West Longitude; the coordinates for Channel 270A at Canaseraga are 42-26-21 North Latitude and 77-40-29 West Longitude; and the coordinates for Channel 271B at Du Bois are 42-11-25 North Latitude and 77-49-17 West Longitude. The allotment of Channel 270B1 at Jamestown will result in a short-spacing to Station CFNY-FM, Channel 271C1, Brampton, Ontario. Therefore, since Jamestown, Alfred, Canaseraga, and Du Bois are located within 320 kilometers (200 miles) of the U.S.-Canadian border, concurrence of the Canadian government has been requested, with the allotment at Jamestown being sought as a specially negotiated, short-spaced allotment. In accordance with Section 1.420(g) of the Commission's Rules, we will not accept competing expressions of interest for the use of Channel 270B1 at Jamestown, or require petitioner to demonstrate the availability of an additional equivalent class channel for use by such parties.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under New York, is amended by removing Channel 270A and adding Channel 246A at Alfred; removing Channel 246A and adding Channel 270A at Canaseraga; removing Channel 270A and adding Channel 270B1 at Jamestown.

Federal Communications Commission.
John A. Karousos,
Chief, Allocations Branch, Policy and Rules Division, Mass Media Bureau.

[FR Doc. 01-4322 Filed 2-21-01; 8:45 am]

BILLING CODE 6712-01-P